DEPARTMENT OF THE INTERIOR

Fish and Wildlife Service

[FWS-R4-ES-2017-N080; FXES11140400000-178-FF04E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with listed species unless a Federal permit is issued that allows such activities. The Act requires that we invite public comment before issuing these permits.

DATES: We must receive written data or comments on the applications at the address given in ADDRESSES by September 14, 2017.

ADDRESSES: Reviewing Documents: Documents and other information submitted with the applications are available for review, subject to the requirements of the Privacy Act and Freedom of Information Act, by any party who submits a written request for a copy of such documents to the following office within 30 days of the date of publication of this notice: U.S. Fish and Wildlife Service Regional Office, Ecological Services, 1875 Century Boulevard, Atlanta, GA 30345 (Attn: Karen Marlowe, Permit Coordinator).

Submitting Comments: If you wish to comment, you may submit comments by any one of the following methods:

• U.S. mail or hand-delivery: U.S. Fish and Wildlife Service's Regional Office (see above).

• Email: permitsR4ES@fws.gov. Please include your name and return address in your email message. If you do not receive a confirmation from the U.S. Fish and Wildlife Service that we have received your email message, contact us directly at the telephone number listed in FOR FURTHER INFORMATION CONTACT.

FOR FURTHER INFORMATION CONTACT: Karen Marlowe, Permit Coordinator, (404) 679-7097 (telephone) or (404) 679-7081 (fax).

SUPPLEMENTARY INFORMATION: We invite review and comment from local, State, and Federal agencies and the public on applications we have received for permits to conduct certain activities with endangered and threatened species under section 10(a)(1)(A) of the Endangered Species Act of 1973, as amended (16 U.S.C. 1531 et seq.; Act), and our regulations in the Code of Federal Regulations (CFR) at 50 CFR part 17. With some exceptions, the Act prohibits activities with listed species unless a Federal permit is issued that allows such activities. The Act requires that we invite public comment before issuing these permits.

Public Availability of Comments

Before including your address, phone number, email address, or other personal identifying information in your comment, you should be aware that your entire comment—including your personal identifying information—may be made publicly available at any time. While you can ask us in your comment to withhold your personal identifying information from public review, we cannot guarantee that we will be able to do so.

Permit Applications

Permit application No. | Applicant | Species/numbers | Location | Activity | Type of take | Permit action
TE 38792A-2 | U.S. Army, Fort Gordon, Fort Gordon, GA | Red-cockaded woodpecker (Picoides borealis)/Unlimited | Ft. Gordon, Ft. Stewart, and Ft. Benning, GA; Apalachicola and Ocala National Forests, FL; Fort Bragg, NC | Population enhancement, management, and monitoring | Construct and install artificial nest cavities and restrictors; monitor nest cavities; capture, band, and translocate | Renewal.
TE 55292B-1 | University of Florida, Gainesville, FL | Everglade snail kite (Rostrhamus sociabilis plumbeus)/Unlimited | Florida | Demographic and movement studies | Capture, band, mark, radio-tag, measure, collect feather samples, release, and monitor | Renewal.
TE 069280-5 | Alabama Department of Transportation, Montgomery, AL | Alabama beach mouse (Peromyscus polionotus ammobates)/Unlimited | Alabama | Presence/absence surveys | Capture, examine, and release | Renewal.
TE 28975C-0 | Bruce Stallsmith, Univ. of Alabama in Hunstville, Huntsville, AL | Palezone shiner (Notropis albizonatus)/50 individuals | Alabama, Kentucky | DNA analyses for research on genetic diversity | Capture, collect fin clips, and release | New.
TE 055241-3 | Robert Montgomery, Dare County Bomb Range, Stumpy Point, NC | Red-cockaded woodpecker (Picoides borealis)/Unlimited | North Carolina | Population enhancement, management, and monitoring | Construct and install artificial nest cavities and restrictors; monitor nest cavities; capture, band, and translocate | Renewal.
TE 30733C-0 | Marissa Thalken, Aurora, CO | Gray bat (Myotis grisescens), Indiana bat (M. sodalis), and northern long-eared bat (M. septentrionalis)/Unlimited | Connecticut, Delaware, District of Columbia, Illinois, Indiana, Iowa, Kentucky, Maryland, Massachusetts, Michigan, Minnesota, Missouri, New Hampshire, New Jersey, New York, North Carolina, Ohio, Pennsylvania, Rhode Island, South Carolina, Tennessee, Virginia, Vermont, West Virginia, and Wisconsin | Presence/absence surveys | Mist-net, harp trap, handle, band, radio-tag, wing-punch, and release | New.
TE 063179-6 | Edwards-Pitman Environmental, Inc., Smyrna, GA | Amber darter (Percina antesella), blue shiner (Cyprinella caerulea), Cherokee darter (Etheostoma scotti), Conasauga logperch (Percina jenkinsi), Etowah darter (Etheostoma etowahae), goldline darter (Percina aurolineata), snail darter (Percina tanasi), Alabama moccasinshell (Medionidus acutissimus), Altamaha spinymussel (Elliptio spinosa), Carolina heelsplitter (Lasmigona decorata), Choctaw bean (Villosa choctawensis), Coosa moccasinshell (Medionidus parvulus), fat threeridge (Amblema neislerii), fine-lined pocketbook (Lampsilis altilis), fuzzy pigtoe (Pleurobema strodeanum), Georgia pigtoe (Pleurobema hanleyianum), Gulf moccasinshell (Medionidus penicillatus), narrow pigtoe (Fusconaia escambia), Ochlockonee moccasinshell (Medionidus simpsonianus), orangenacre mucket (Lampsilis perovalis), oval pigtoe (Pleurobema pyriforme), ovate clubshell (Pleurobema perovatum), purple bankclimber (Elliptoideus sloatianus), round ebonyshell (Fusconaia rotulata), shiny-rayed pocketbook (Lampsilis subangulata), southern acornshell (Epioblasma othcaloogensis), southern clubshell (Pleurobema decisum), southern combshell (Epioblasma penita), southern kidneyshell (Ptychobranchus jonesi), southern pigtoe (Pleurobema georgianum), southern sandshell (Hamiota australis), Suwanee moccasinshell (Medionidus walkeri), tapered pigtoe (Fusconaia burkei), triangular kidneyshell (Ptychobranchus greenii), and upland combshell (Epioblasma metastriata)/Unlimited | Florida, Georgia, North Carolina, and South Carolina | Presence/absence surveys | Capture, identify, release, and salvage shells | Renewal and amendment.
TE 12169B-1 | Mitigation Management, Atlanta, GA | Amber darter (Percina antesella), blue shiner (Cyprinella caerulea), Cherokee darter (Etheostoma scotti), Conasauga logperch (Percina jenkinsi), Etowah darter (Etheostoma etowahae), goldline darter (Percina aurolineata), and snail darter (Percina tanasi)/Unlimited | Georgia | Presence/absence surveys | Capture, identify, and release | Renewal and amendment.
TE 34387C-0 | U.S. Fish and Wildlife Service, Blacksburg, VA | Oyster mussel (Epioblasma capsaeformis)/240 individuals | Tennessee and Virginia | Captive conditioning and spawning research | Collect, transport, hold in captivity for 90 days, tag, and release | New.
TE 34429C-0 | Nancy Buschhaus, Univ. of Tennessee at Martin, Martin, TN | Gray bat (Myotis grisescens), Indiana bat (M. sodalis), and northern long-eared bat (M. septentrionalis)/Unlimited | Tennessee | Presence/absence survey and population demographics study | Capture with mist-nets, collect fecal samples, and release | New.

Authority: We provide this notice under section 10(c) of the Act.

Dated: June 1, 2017.
Guy Schein,
Acting Assistant Regional Director, Ecological Services, Southeast Region.

[FR Doc. 2017-17208 Filed 8-14-17; 8:45 am]

BILLING CODE 4333-15-P